PRIVACY AND CIVIL LIBERTIES OVERSIGHT BOARD

[Notice-PCLOB-2014-05; Docket No. 2014-0001; Sequence 5]

Notice of Meeting

AGENCY: Privacy and Civil Liberties Oversight Board.

ACTION: Notice of meeting; request for public comment.

SUMMARY: The Privacy and Civil Liberties Oversight Board will conduct a public meeting with industry representatives, academics, technologists, government personnel, and members of the advocacy community, on the topic: “Defining Privacy.” While the Board will address the definition of privacy in the context of government counterterrorism programs, it is also interested in what conceptual interests are involved in the protection of privacy, how the impact of technology has affected privacy, what privacy interests have been identified by government privacy officials, what lessons have been learned in the private sector, and what the best way is for government to address privacy concerns. Interested parties are encouraged to attend and to submit comments. The meeting and comments will inform the Privacy and Civil Liberties Oversight Board's approach to privacy issues within its statutory purview. Visit www.pclob.gov for a list of panelists closer to the meeting date.

DATES: The meeting will be held Wednesday, November 12, 2014 from 8:00 a.m. through 4:30 p.m. (Eastern Standard Time). Written comments must be received on or before December 31, 2014.

ADDRESSES: Washington Marriott Georgetown Hotel, 1221 22nd Street NW., Washington, DC 20037. Any change in location will be announced on www.pclob.gov.

FOR FURTHER INFORMATION CONTACT: Sharon Bradford Franklin, Executive Director, 202-331-1986, or send your inquiry to: info@pclob.gov.

SUPPLEMENTARY INFORMATION:

Agenda

Doors open at 8:00 a.m. (Eastern Standard Time). The meeting will begin promptly at 8:30 a.m. and will be divided into the following panels:

• Panel 1: Defining Privacy Interests.

• Panel 2: Privacy Interests in the Counterterrorism Context and the Impact of Technology.

• Panel 3: Privacy Interests Identified and Addressed by Government Privacy Officials.

• Panel 4: Applying Lessons Learned from the Private Sector.

A formal agenda will be available at www.pclob.gov closer to the meeting date.

Procedures for Public Observation

The meeting is open to the public. Pre-registration is not required. Individuals who plan to attend and require special assistance should contact Sharon Bradford Franklin, Executive Director, 202-331-1986, at least 72 hours prior to the meeting date.

Public Comments

The Privacy and Civil Liberties Oversight Board invites written comments of interested persons regarding privacy in the counterterrorism context. You may submit comments with the docket number PCLOB-2014-05 by the following method:

Submit comments identified by Notice PCLOB 2014-05, Notice of a Meeting by any of the following methods:

• Regulations.gov: http://www.regulations.gov. Submit comments via the Federal eRulemaking portal by searching “PCLOB 2014-05”. Select the link “Comment Now” that corresponds with “Notice PCLOB 2014-05, Notice of a Meeting”. Follow the instructions provided on the screen. Please include your name, company name (if any), and “Notice PCLOB 2014-05, Notice of a Meeting”, on your attached document.

• Instructions: Please submit comments only and cite Notice PCLOB 2014-05, Notice of a Meeting, in all correspondence related to this collection. All comments received will be posted without change to http://www.regulations.gov, including any personal and/or business confidential information provided.

• Written comments may be submitted at any time prior to the closing of the docket at 11:59 p.m. Eastern Standard Time on December 31, 2014.

Dated: October 16, 2014.
Peter Winn,
Acting General Counsel, Privacy and Civil Liberties Oversight Board.

[FR Doc. 2014-24994 Filed 10-20-14; 8:45 am]

BILLING CODE 6820-B3-P